SMALL BUSINESS ADMINISTRATION

Announcement of the Extension of the SBAExpress Pilot Loan Program

AGENCY: U.S. Small Business Administration.

ACTION: Notice of pilot extension.

SUMMARY: The U.S. Small Business Administration (SBA) announces extension of the SBAExpress Loan program as a pilot until September 30, 2002. This extension will allow time for the Agency to develop, implement and test significant changes to the program. These changes are the product of discussions with SBA field offices, SBA lenders, and the small business community.

The SBAExpress Pilot Loan program was established in 1995 to streamline and expedite the SBA's loan application, processing and approval procedures for smaller loans and to substantially increase the number of those loans approved by the Agency. While the program has grown to represent 29 percent of the SBA's current loan volume, the Agency has identified a number of changes and enhancements that would make the program more attractive to its lending partners and better meet the needs of small businesses. The extension of SBAExpress as a pilot until September 30, 2005, will allow the Agency to implement those changes and test their implications for the Agency's portfolio. It will also allow SBA to further consult with regulatory and lending institutions, lenders and the small business community about the program.

FOR FURTHER INFORMATION CONTACT: Charles Thomas, Office of Financial Assistance, U.S. Small Business Administration, 409 Third Street, SW, Suite 8300, Washington, DC 20416; telephone (202) 205-6490.

Dated: June 7, 2002.
Jane Palsgrove Butler,
Associate Administrator for Financial Assistance.

[FR Doc. 02-14894 Filed 6-12-02; 8:45 am]

BILLING CODE 8025-01-P